DEPARTMENT OF HEALTH AND HUMAN SERVICES

Office of the Secretary

Office of Minority Health

Notice of a Cooperative Agreement With the Interamerican College of Physicians and Surgeons (ICPS)

AGENCY: Office of the Secretary, Office of Minority Health, HHS.

ACTION: Notice of a Cooperative Agreement with the Interamerican College of Physicians and Surgeons (ICPS).

The Office of Minority Health (OMH), Office of Public Health and Science, announces its intent to continue support of the umbrella cooperative agreement with the Interamerican College of Physicians and Surgeons (ICPS). This cooperative agreement will continue the broad programmatic framework in which specific projects can be supported by various governmental agencies during the project period.

The purpose of this cooperative agreement is to assist the organization in expanding and enhancing its activities in the following areas: service delivery, disease prevention, health promotion, and health services research opportunities, with the ultimate goal of improving the health status of minorities and disadvantaged people.

The OMH will provide technical assistance and oversight as necessary for the implementation, conduct, and assessment of the project activities. On an as-needed basis, OMH will assist in arranging consultation from other government agencies and non-government agencies.

Authority: This cooperative agreement is authorized under Section 1707(e)(1) of the Public Health Service Act, as amended.

Background

Assistance will continue to be provided to ICPS. During the last five years, ICPS has successfully demonstrated the ability to work with its organizational membership and health agencies on mutual education, service, and research endeavors. The ICPS is uniquely qualified to continue to accomplish the purposes of this cooperative agreement because it has the following combination of factors:

• It is a national organization whose membership consists exclusively of Hispanic physicians, surgeons, and future health care providers.

• It has an established infrastructure to develop, expand, and manage various health education and medical training programs within local communities and physician groups that deal extensively with Hispanic health issues. These programs are aimed at preventing and reducing mortality rates among Hispanic populations.

• It has established itself as an organization with professionals who serve as leaders and experts in planning, developing, implementing, and evaluating health education curricula, and client-based health prevention programs aimed at reducing excessive mortality and adverse health behaviors among Hispanic populations.

• It has developed databases and directories of health care providers and Hispanic medical students interested in primary care, including funding mechanisms to continue graduate, medical, and scientific education.

• It has an inventory of critical knowledge, skills, and abilities related to serving Hispanic clients on a range of health and social problems.

This cooperative agreement will be continued for an additional 3-year project period with 12-month budget periods. Depending upon the types of projects and availability of funds, it is anticipated that this cooperative agreement will receive approximately $100,000 per year. Continuation awards within the project period will be made on the basis of satisfactory progress and the availability of funds.

Where To Obtain Additional Information

If you are interested in obtaining additional information regarding this cooperative agreement, contact Ms. Cynthia Amis, Office of Minority Health, 5515 Security Lane, Suite 1000, Rockville, Maryland 20852 or telephone (301) 594-0769.

OMB Catalog of Federal Domestic Assistance

The Catalog of Federal Domestic Assistance Number for this cooperative agreement is 93.004.

Dated: April 11, 2000.
Nathan Stinson, Jr.,
Deputy Assistant Secretary for Minority Health.

[FR Doc. 00-10319 Filed 4-25-00; 8:45 am]

BILLING CODE 4160-17-P